ENVIRONMENTAL PROTECTION AGENCY

[FRL-9458-5]

Request for Nominations of Experts for the Science Advisory Board's Animal Feeding Operation Emission Review Panel

AGENCY: Environmental Protection Agency (EPA).

ACTION: Notice.

SUMMARY: The EPA Science Advisory Board (SAB) Staff Office is requesting public nominations of technical experts to serve on an expert panel under the auspices of the SAB to conduct a peer review of EPA's development of air emission estimating methodologies for animal feeding operations.

DATES: Nominations should be submitted by September 22, 2011 per instructions below.

FOR FURTHER INFORMATION CONTACT: Any member of the public wishing further information regarding this Notice and Request for Nominations may contact Mr. Edward Hanlon, Designated Federal Officer (DFO), SAB Staff Office, by telephone/voice mail at (202) 564-2134, or via e-mail at hanlon.edward@epa.gov.

General information concerning the EPA Science Advisory Board can be found at the EPA SAB Web site at http://www.epa.gov/sab. For questions concerning EPA's air emission estimating methodologies for animal feeding operations, please contact Mr. Larry Elmore of EPA's Office of Air Quality Planning and Standards by phone at (919) 541-5433, or via e-mail at elmore.larry@epa.gov.

SUPPLEMENTARY INFORMATION:

Background: The SAB was established pursuant to the Environmental Research, Development, and Demonstration Authorization (ERDDAA) Act, codified at 42 U.S.C. 4365 to provide independent scientific and technical advice to the EPA Administrator on the technical basis for EPA actions. The EPA's Office of Air and Radiation (OAR) has requested the SAB to review EPA's draft air emission estimating methodologies (EEMs) for animal feeding operations (AFOs). EPA developed the draft methodologies to address requirements of a voluntary air compliance consent agreement signed in 2005 between EPA and nearly 14,000 broiler, dairy, egg layer, and swine AFO operations. The goals of the agreement are to reduce air pollution, monitor AFO emissions, promote a national consensus on methodologies for estimating emissions from AFOs, and ensure compliance with the requirements of the Clean Air Act (CAA), the Comprehensive Environmental Response, Compensation, and Liability Act (CERCLA) and the Emergency Planning and Community Right-to-Know Act (EPCRA).

The pollutants monitored under the agreement include: Ammonia, hydrogen sulfide, particulate matter, and volatile organic compounds. As part of the agreement, EPA is charged with developing EEMs for broiler, dairy, egg layer, and swine AFO sectors. EPA has requested the SAB to provide advice on scientific issues associated with EPA's development of the EEMs.

In response to EPA's request, the SAB Staff Office will form an expert panel to review EPA's development of AFO air EEMs. As a Federal Advisory Committee, the SAB conducts business in accordance with the Federal Advisory Committee Act (FACA) (5 U.S.C. App.2) and related regulations. The SAB Panel will provide advice through the chartered SAB and comply with the provisions of FACA and all appropriate SAB Staff Office procedures.

Request for Nominations: The SAB Staff Office is seeking public nominations of nationally recognized experts with demonstrated expertise and experience in the following areas related to AFO air emission estimation methods: Air emissions from broiler, dairy, egg layer, and/or swine production animal feeding operations; air monitoring and detection methods; exposure assessment; environmental statistics; emission and statistical modeling; and uncertainty analysis.

Process and Deadline for Submitting Nominations: Any interested person or organization may nominate qualified individuals in the areas of expertise described above for possible service on this expert panel. Nominations should be submitted in electronic format (preferred over hard copy) following the instructions for “Nominating Experts to Advisory Panels and Ad Hoc Committees Being Formed,” provided on the SAB Web site. The instructions can be accessed through the “Nomination of Experts” link on the blue navigational bar at the SAB Web site http://www.epa.gov/sab. To receive full consideration, nominations should include all of the information requested below.

EPA's SAB Staff Office requests contact information about the person making the nomination; contact information about the nominee; the disciplinary and specific areas of expertise of the nominee; the nominee's resume or curriculum vita; sources of recent grant and/or contract support; and a biographical sketch of the nominee indicating current position, educational background, research activities, and recent service on other national advisory committees or national professional organizations.

Persons having questions about the nomination procedures, or who are unable to submit nominations through the SAB Web site, should contact Mr. Edward Hanlon, DFO, as indicated above in this notice. Nominations should be submitted in time to arrive no later than September 22, 2011. EPA values and welcomes diversity. In an effort to obtain nominations of diverse candidates, EPA encourages nominations of women and men of all racial and ethnic groups.

The EPA SAB Staff Office will acknowledge receipt of nominations. The names and bio-sketches of qualified nominees identified by respondents to this Federal Register notice, and additional experts identified by the SAB Staff, will be posted in a List of Candidates on the SAB Web site at http://www.epa.gov/sab. Public comments on this List of Candidates will be accepted for 21 days. The public will be requested to provide relevant information or other documentation on nominees that the SAB Staff Office should consider in evaluating candidates.

For the EPA SAB Staff Office a review panel includes candidates who possess the necessary domains of knowledge, the relevant scientific perspectives (which, among other factors, can be influenced by work history and affiliation), and the collective breadth of experience to adequately address the charge. In forming this expert panel, the SAB Staff Office will consider public comments on the List of Candidates, information provided by the candidates themselves, and background information independently gathered by the SAB Staff Office. Selection criteria to be used for panel membership include: (a) Scientific and/or technical expertise, knowledge, and experience (primary factors); (b) availability and willingness to serve; (c) absence of financial conflicts of interest; (d) absence of an appearance of a lack of impartiality; (e) skills working in committees, subcommittees and advisory panels; and, (f) for the Panel as a whole, diversity of expertise and viewpoints.

The SAB Staff Office's evaluation of an absence of financial conflicts of interest will include a review of the “Confidential Financial Disclosure Form for Special Government Employees Serving on Federal Advisory Committees at the U.S. Environmental Protection Agency” (EPA Form 3110-48). This confidential form allows government officials to determine whether there is a statutory conflict between a person's public responsibilities (which includes membership on an EPA federal advisory committee) and private interests and activities, or the appearance of a lack of impartiality, as defined by Federal regulation. The form may be viewed and downloaded from the following URL address http://www.epa.gov/sab/pdf/epaform3110-48.pdf.

The approved policy under which the EPA SAB Office selects subcommittees and review panels is described in the following document: Overview of the Panel Formation Process at the Environmental Protection Agency Science Advisory Board (EPA-SAB-EC-02-010), which is posted on the SAB Web site at http://www.epa.gov/sab/pdf/ec02010.pdf.

Dated: August 26, 2011.
Vanessa T. Vu,
Director, EPA Science Advisory Board Staff Office.

[FR Doc. 2011-22438 Filed 8-31-11; 8:45 am]

BILLING CODE 6560-50-P